COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add a product and service to the Procurement List that will be furnished by nonprofit agencies employing persons who are blind or have other severe disabilities, and deletes a product and service previously furnished by such agencies.

DATES: Comments Must Be Received On or Before: 4/8/2013.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

NSN: 7930-00-NIB-0644—Cleaning Pad, Melamine Foam, White, 4″ x 1.5″ x 4″

NPA: West Texas Lighthouse for the Blind, San Angelo, TX

Contracting Activity: General Services Administration, Fort Worth, TX

Coverage: A-List for the Total Government Requirement as aggregated by the General Services Administration.

Service

Service Type/Location: Custodial Service, U.S. Army Reserve Center Facility, 15303 Andrews Road, Kansas City, MO.

NPA: JobOne, Independence, MO

Contracting Activity: Dept of the Army, W6QM MICC-ARCC North, Fort McCoy, WI

Deletions

The following product and service are proposed for deletion from the Procurement List:

Product

Bottom Assembly, Crew Berth

NSN: 1680-00-677-2060

NPA: None assigned

Contracting Activity: Defense Logistics Agency Aviation, Richmond, VA

Service

Service Type/Location: Custodial Services, Kastenmeir US Courthouse, 120 Henry Street, Madison, WI.

NPA: Madison Area Rehabilitation Centers, Inc., Madison, WI

Contracting Activity: GSA, Public Buildings Service, Property Management Service Center, Chicago, IL

Barry S. Lineback,
Director, Business Operations.

[FR Doc. 2013-05442 Filed 3-7-13; 8:45 am]

BILLING CODE 6353-01-P